FEDERAL COMMUNICATIONS COMMISSION

[Report No. AUC-01-41-B (Auction No. 41)]

Narrowband PCS Spectrum Auction Scheduled for October 3, 2001; Revised Upfront Payments, Bidding Unit Amounts, and Minimum Opening Bids for Nationwide Licenses and Licenses in MTA 017

AGENCY: Federal Communications Commission.

ACTION: Notice.

SUMMARY: This document advises the public of a revision to information that was included in an attachment to the Auction No. 41 Comment Public Notice, which was released June 12, 2001. Specifically, the population figures and proposed bidding units, upfront payments, and minimum opening bids were incorrect for the eight (8) nationwide licenses and seven (7) licenses available in one Major Trading Areas (MTA), MTA 017.

DATES: Comments on these revised upfront payments, bidding units and minimum opening bids are due July 2, 2001.

ADDRESSES: An original and four copies of all pleadings must be filed with the Commission's Secretary, Magalie Roman Salas, Office of the Secretary, Federal Communications Commission, Room TW-A325, 445 Twelfth Street, S.W., Washington, DC 20554.

FOR FURTHER INFORMATION CONTACT: Howard Davenport, Auctions Attorney, or Lyle Ishida, Auctions Analyst, at (202) 418-0660; or Lisa Stover, Project Manager, at (717) 338-2888.

SUPPLEMENTARY INFORMATION: This is a summary of a Public Notice released June 21, 2001. The complete text of this Public Notice is available for inspection and copying during normal business hours in the FCC Reference Center (Room CY-A257) 445 12th Street, SW, Washington, DC. It may also be purchased from the Commission's copy contractor, International Transcription Services, Inc. (ITS, Inc.) 1231 20th Street, NW, Washington, D.C. 20036, (202) 857-3800. It is also available on the Commission's web site at http://www.fcc.gov.

The following table corrects population figures for the nationwide license area and MTA017, New Orleans-Baton Rouge.

The Bureau has proposed to calculate upfront payments, bidding unit amounts, and minimum opening bids using formulas that include license area population as one element of the formula. Accordingly, the new population figures result in revised upfront payments, bidding unit amounts, and minimum opening bids for the 8 nationwide licenses and 7 licenses in MTA017 available in Auction No. 41. The following table includes the revised amounts:

Market No. | Market Name | License No. | Channel No. | Population | Bidding Units | Upfront Payment | Minimum Opening Bid
NWA255 | Nationwide | CNNWA25518 | 18 | 252,556,989 | 505,000 | $505,000 | $1,010,000
NWA255 | Nationwide | CNNWA25519 | 19 | 252,556,989 | 505,000 | $505,000 | $1,010,000
NWA255 | Nationwide | CNNWA25520 | 20 | 252,556,989 | 505,000 | $505,000 | $1,010,000
NWA255 | Nationwide | CNNWA25521 | 21 | 252,556,989 | 1,010,000 | $1,010,000 | $2,020,000
NWA255 | Nationwide | CNNWA25522 | 22 | 252,556,989 | 1,010,000 | $1,010,000 | $2,020,000
NWA255 | Nationwide | CNNWA25523 | 23 | 252,556,989 | 758,000 | $758,000 | $1,515,000
NWA255 | Nationwide | CNNWA25524 | 24 | 252,556,989 | 758,000 | $758,000 | $1,515,000
NWA255 | Nationwide | CNNWA25525 | 25 | 252,556,989 | 758,000 | $758,000 | $1,515,000
MTA017 | New Orleans-Baton Rouge | CNMTA01726 | 26 | 4,925,269 | 4,900 | $4,900 | $9,900
MTA017 | New Orleans-Baton Rouge | CNMTA01727 | 27 | 4,925,269 | 4,900 | $4,900 | $9,900
MTA017 | New Orleans-Baton Rouge | CNMTA01728 | 28 | 4,925,269 | 4,900 | $4,900 | $9,900
MTA017 | New Orleans-Baton Rouge | CNMTA01729 | 29 | 4,925,269 | 9,900 | $9,900 | $20,000
MTA017 | New Orleans-Baton Rouge | CNMTA01730 | 30 | 4,925,269 | 15,000 | $15,000 | $30,000
MTA017 | New Orleans-Baton Rouge | CNMTA01731 | 31 | 4,925,269 | 20,000 | $20,000 | $39,000
MTA017 | New Orleans-Baton Rouge | CNMTA01732 | 32 | 4,925,269 | 11,000 | $11,000 | $22,000

Comments on the revised upfront payments, bidding unit amounts, and minimum opening bids may be filed on or before July 2, 2001, the deadline for filing reply comments in response to the Auction No. 41 Comment Public Notice, 66 FR 32810 (June 18, 2001). An original and four copies of all pleadings must be filed with the Commission's Secretary, Magalie Roman Salas, Office of the Secretary, Federal Communications Commission, Room TW-A325, 445 Twelfth Street, SW., Washington, DC 20554, in accordance with § 1.51(c) of the Commission's rules. In addition, one copy of each pleading must be delivered to each of the following locations: (i) The Commission's duplicating contractor, International Transcription Service, Inc. (ITS), 1231 20th Street, NW., Washington, DC 20036; (ii) Office of Media Relations, Public Reference Center, Room CY-A257, 445 Twelfth Street, SW., Washington, DC 20554; (iii) Rana Shuler, Auctions and Industry Analysis Division, Wireless Telecommunications Bureau, Room 4-A628, 445 Twelfth Street, SW., Washington, DC 20554. Comments will be available for public inspection during regular business hours in the FCC Public Reference Room, Room CY-A257, 445 12th Street, SW., Washington, DC 20554.

Federal Communications Commission.
Margaret Wiener,
Chief, Auctions and Industry Analysis Division, WTB.

[FR Doc. 01-16518 Filed 6-28-01; 8:45 am]

BILLING CODE 6712-01-U